DEPARTMENT OF LABOR

Employment and Training Administration

[TA-W-52,284]

Fisher Pierce, Weymouth, MA; Notice of Revised Determination on Reconsideration

By application of August 26, 2003, a company official requested administrative reconsideration regarding the Department's Negative Determination Regarding Eligibility to Apply for Worker Adjustment Assistance, applicable to the workers of the subject firm.

The initial investigation resulted in a negative determination issued on July 31, 2003, based on the finding that imports of outdoor lighting controls and printed circuit boards (PCBs)did not contribute importantly to worker separations at the subject plant and no shift of production to a foreign source occurred. The denial notice was published in the Federal Register on August 18, 2003 (68 FR 49523).

To support the request for reconsideration, the company official supplied additional information not made available in the initial investigation. A review of this additional information revealed that the company shifted a significant portion of its production to Mexico, which is party to a free trade agreement with the United States.

Conclusion

After careful review of the additional facts obtained on reconsideration, I conclude that increased imports of articles like or directly competitive with those produced at Fisher Pierce, Weymouth, Massachusetts, contributed importantly to the declines in sales or production and to the total or partial separation of workers at the subject firm. In accordance with the provisions of the Act, I make the following certification:

All workers of Fisher Pierce, Weymouth, Massachusetts, who became totally or partially separated from employment on or after July 31, 2002, through two years from the date of this certification, are eligible to apply for adjustment assistance under section 223 of the Trade Act of 1974.

Signed in Washington, DC, this 20th day of November, 2003.
Linda G. Poole,
Certifying Officer, Division of Trade Adjustment Assistance.

[FR Doc. 03-29548 Filed 11-25-03; 8:45 am]

BILLING CODE 4510-30-P